DEPARTMENT OF TRANSPORTATION

National Highway Traffic Safety Administration

[Docket No. NHTSA-2001-9595]

Motorcycle Safety Improvement Plan

AGENCY: National Highway Traffic Safety Administration (NHTSA), DOT.

ACTION: Request for comments.

SUMMARY: This document announces the availability of a draft planning document that describes the agency's current and planned activities to reduce the deaths and injuries associated with motorcycle crashes. Since reaching an historic low in the number of motorcyclist fatalities in 1997 (2,116), motorcyclist fatalities have increased 27 percent to 2,680 in 2000. This continued a rising trend in motorcycle deaths that is in stark contrast to the general decline witnessed in previous years. Consequently, NHTSA concluded that a renewed national effort is needed at all levels—federal, state, and community—in order to once again begin to reduce the levels of motorcycle crashes, fatalities, and injuries in the U.S. New, effective programs would therefore need to be undertaken to achieve these outcomes:

• Improved rider and passenger safety;

• Safer motorcycles;

• Improved motorcycle crash data collection and analysis; and

• A safer riding environment.

NHTSA intends to continue to serve as a leader and major partner in motorcycle safety. Therefore, this plan has been developed to respond to and support the framework of National Agenda for Motorcycle Safety (DOT-HS 809 156, November 2000). The plan reflects a coordinated agency-wide planning effort that also involved our sister agency, the Federal Highway Administration (FHWA), to address roadway and related environment safety issues related to improved safety for motorcyclists on the nation's roadways. For each of the defined actions, the plan provides background information, describes current agency activities, and presents proposed activities to achieve the goal of improving motorcycle safety. NHTSA seeks public review and comment on this draft plan. Comments received will be evaluated and incorporated, as appropriate, into the planned agency activities.

DATES: Comments must be received no later than August 9, 2001.

ADDRESSES: Interested persons may obtain a copy of the draft plan by downloading a copy of the document from the Docket Management System, U.S. Department of Transportation, at the address provided below, or from NHTSA's website at http://www.nhtsa.dot.gov/people /injury/pedbimot/motorcycle. Alternatively, interested persons may obtain a copy of the document by contacting the agency officials listed in the section titled, For Further Information Contact, immediately below.

Submit written comments to the Docket Management System, U.S. Department of Transportation, PL 401, 400 Seventh Street, SW., Washington, DC 20590-0001. Comments should refer to the Docket Number (NHTSA-2001-9595) and be submitted in two copies. If you wish to receive confirmation of receipt of your written comments, include a self-addressed, stamped postcard.

Comments may also be submitted to the docket electronically by logging onto the Docket Management System website at http://dms.dot.gov. Click on “Help & Information” to obtain instructions for filing the comment electronically. In every case, the comment should refer to the docket number.

The Docket Management System is located on the Plaza level of the Nassif Building at the Department of Transportation at the above address. You can review public dockets there between the hours of 9 a.m. and 5 p.m., Monday through Friday, except Federal holidays. You can also review comments on-line at the DOT Docket Management System web site at http://dms.dot.gov/.

FOR FURTHER INFORMATION CONTACT: Joey Syner, Safety Countermeasures Division, Traffic Safety Programs, NTS-15, National Highway Traffic Safety Administration, Room 5118, 400 Seventh Street, SW., Washington, DC 20590. Telephone: 202-366-1770. Email: jsyner@nhtsa.dot.gov or Delmas Johnson, Office of Strategic and Program Planning, NPP-10, National Highway Traffic Safety Administration, Room 5208, 400 Seventh Street, SW., Washington, DC 20590. Telephone: 202-366-1574. Email: djohnson@nhtsa.dot.gov.

SUPPLEMENTARY INFORMATION: Motorcycle safety is a priority for NHTSA because motorcycle deaths and injuries are an important and difficult challenge in the public health issue of traffic safety. Thus, the agency will remain a major participant in improving motorcycle safety. The growth in the motorcycle problem calls for new program actions to supplement existing initiatives. As mentioned, the motorcyclist fatality level increased in recent years, growing by almost 8 percent in 2000, following a similar annual increase of 8 percent from 1997 to 1999. This accounted for an estimated 2,680 motorcyclist deaths in 2000 (based on preliminary estimates), compared to 2,472 riders killed in 1999, along with another 50,000 injured.

Historically, there have in fact been periods of major improvement in motorcycle safety since federal laws and programs were first enacted about 35 years ago. But upward trends in the recent past sound a warning that the effects of earlier improvements are waning. And this unfortunate reversal is occurring just as other major safety trends, such as traffic deaths for other vehicle types, are for the most part showing an encouraging trend downward. In spite of the safety community's best efforts, crash data indicate unmistakably that riding a motorcycle continues to be a risky endeavor. It is in fact the most hazardous means of travel in the United States.

Efforts by the motorcycle community to improve safety face a difficult situation. Although national data show that trends in crashes involving motorcycles shift to some degree over time, the big issues surrounding motorcycle safety—such as rider protection during crashes, the need for good training, and the impairing effects of alcohol—are extant from year to year. As a result, motorcycle crashes tend to be over-represented in the overall crash picture. In 1999, motorcyclists represented less than 2 percent of all registered vehicles in the United States and accounted for only 0.4 percent of vehicle miles traveled, but crashes involving motorcycles accounted for 6 percent of total traffic fatalities on U.S. roadways. The effects of a crash involving a motorcycle can often be devastating. NHTSA estimates that 80 percent of motorcycle crashes continue to result in rider injury or death. Agency data show that these high fatality and injury rates result from both a higher incidence of crash involvement and as the higher risk of injury and death associated with motorcycle crashes.

The emergence of a broadly-supported National Agenda for Motorcycle Safety [DOT HS 809 156, November 2000] represents a significant event in the history of motorcycle safety. In 1998, cooperation got underway between the Motorcycle Safety Foundation (MSF) and NHTSA, along with important motorcycling groups, for the purpose of shaping a national safety agenda—the recently released National Agenda for Motorcycle Safety [Agenda]. The Agenda serves as a comprehensive, national blueprint which all interests can use to promote motorcycle safety. Developing this framework involved participation by experts in industry, research, safety, training, and rider communities (including law enforcement, health care, media, insurance companies). The result was a collaborative document that examines components of motorcycle safety programs at federal, state and local levels, and offers strategies for broad-based support and action.

The Agenda was a crucial resource in helping to guide development of this NHTSA motorcycle safety plan demonstrating the agency's commitment to several of the recommendations in the Agenda.

How Do I Prepare and Submit Comments?

Your comments must be written and in English. To ensure that your comments are correctly filed in the Docket, please include the Docket number of this document (NHTSA-2001-9595) in your comments.

Please send two paper copies of your comments to Docket Management or submit them electronically. The mailing address is U.S. Department of Transportation Docket Management, Room PL-401, 400 Seventh Street, SW., Washington, DC 20590. If you submit your comments electronically, log onto the Docket Management System website at http://dms.dot.gov and click on “Help & Information” or “Help/Info” to obtain instructions.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW, Washington, DC 20590. Include a cover letter supplying the information specified in our confidential business information regulation (49 CFR part 512).

In addition, send two copies from which you have deleted the claimed confidential business information to Docket Management, Room PL-401, 400 Seventh Street, SW., Washington, DC 20590.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW., Washington, DC from 10 a.m. to 5 p.m., Monday through Friday.

You may also see the comments on the Internet by taking the following steps:

• Go to the Docket Management System (DMS) Web page of the Department of Transportation (http://dms.dot.gov).

• On that page, click on “search.”

• On the next page ((http://dms.dot.gov/search/) type in the four-digit Docket number shown at the beginning of this document (9595). Click on “search.”

• On the next page, which contains Docket summary information for the Docket you selected, click on the desired comments. You may also download the comments.

Authority: 49 U.S.C. 30111, 30117, 30168; delegation of authority at 49 CFR 1.50 and 501.8.

William H. Walsh,
Associate Administrator for Plans and Policy.

[FR Doc. 01-15813 Filed 6-22-01; 8:45 am]

BILLING CODE 4910-59-P